DEPARTMENT OF DEFENSE

Office of the Secretary

[Docket ID: DoD-2023-OS-0119]

Proposed Collection; Comment Request

AGENCY: Office of the Under Secretary of Defense for Personnel and Readiness (OUSD(P&R)), Department of Defense (DoD).

ACTION: 60-Day information collection notice.

SUMMARY: In compliance with the Paperwork Reduction Act of 1995, the OUSD(P&R) announces a proposed public information collection and seeks public comment on the provisions thereof. Comments are invited on: whether the proposed collection of information is necessary for the proper performance of the functions of the agency, including whether the information shall have practical utility; the accuracy of the agency's estimate of the burden of the proposed information collection; ways to enhance the quality, utility, and clarity of the information to be collected; and ways to minimize the burden of the information collection on respondents, including through the use of automated collection techniques or other forms of information technology.

DATES: Consideration will be given to all comments received by February 5, 2024.

ADDRESSES: You may submit comments, identified by docket number and title, by any of the following methods:

Federal eRulemaking Portal: http://www.regulations.gov. Follow the instructions for submitting comments.

Mail: Department of Defense, Office of the Assistant to the Secretary of Defense for Privacy, Civil Liberties, and Transparency, 4800 Mark Center Drive, Mailbox #24, Suite 08D09, Alexandria, VA 22350-1700.

Instructions: All submissions received must include the agency name, docket number, and title for this Federal Register document. The general policy for comments and other submissions from members of the public is to make these submissions available for public viewing on the internet at http://www.regulations.gov as they are received without change, including any personal identifiers or contact information.

FOR FURTHER INFORMATION CONTACT: To request more information on this proposed information collection or to obtain a copy of the proposal and associated collection instruments, please write to: Samuel Whalen, Ph.D. (samuel.j.whalen2.ctr@health.mil), Center for Military Psychiatry and Neuroscience (CMPN), Walter Reed Army Institute of Research (WRAIR) 503 Robert Grant Ave. BLDG 509, Room 115A, Silver Spring, MD 20910 or call at 301-319-9862.

SUPPLEMENTARY INFORMATION: Title; Associated Form; and Office of Management and Budget (OMB) Number: Leader Assessment of the DoD's Toolkit for Managing Suicide-Related Events; OMB Control Number: 0704-SPTK.

Needs and Uses:

The Defense Suicide Prevention Office (DSPO) requires assistance from Walter Reed Army Institute of Research (WRAIR) to administer a project evaluating the utilization of the DSPO Postvention Toolkit. In accordance with Department of Defense Instruction (DoDI) 6490.16, Defense Suicide Prevention Program, DSPO and the Military Departments must “ensure that suicide prevention activities are developed from a relevant evidence-base and have an evaluation capability” prior to implementation. Suicide prevention activities that were in place prior to release of the DoDI 6490.16 must be reviewed for improvement and gather program evaluation data. In addition, Government Accountability Office (GAO) Report GAO-22-105108 (April, 2022), titled “DoD Should Enhance Oversight, Staffing, Guidance, and Training Affecting Certain Remote Installations,” recommended that the Under Secretary of Defense for Personnel and Readiness, via DSPO, establish guidance to address commanders' response to suicide attempts, including the extent of any responsibilities related to reintegration of Service members into the workplace following a suicide attempt.

Released in 2020, the DSPO Postvention Toolkit was intended equip DoD personnel with a better understanding of how to support leaders in helping the military community navigate the practical and emotional concerns after a suicide-related event in a way that is sensitive to the unique issues associated with such an event. Sections of the Toolkit were specifically designed to facilitate leader decision making, support, and management of suicide-related events. As of July 2023, the Toolkit has not been evaluated. The proposed project will allow DSPO to meet the DoDI 6490.16 requirement to develop an evaluation plan for the DSPO Postvention Toolkit, while simultaneously meeting GAOs requirements to explore and develop resources to meet the needs of military leaders' in supporting Service member reintegration following suicide attempts.

The scope of this project is to interview approximately 100 military leaders to obtain feedback about the DSPO Postvention Toolkit. This feedback will inform recommendations regarding updates to the toolkit in terms of content and approach. In addition, the interviews will provide pilot data on leader attitudes toward reintegrating Service members following non-lethal suicide-related events and leader attitudes about suicide-related event clusters they may have encountered. Interviews will be conducted with leaders at various levels (e.g., platoon, company, and battalion; officer and enlisted personnel) and across the Military Services (Army, Air Force, Navy, Marine Corps, and Space Force). Requirements for study participation include having been in a leadership role when managing a suicide-related event within the past 5 years.

Affected Public: Active-Duty Service Members (ADSMs) representing each of the Military Services.

Annual Burden Hours: 150.

Number of Respondents: 100.

Responses per Respondent: 1.

Annual Responses: 100.

Average Burden per Response: 90 minutes.

Frequency: Once.

Dated: November 30, 2023.
Aaron T. Siegel,
Alternate OSD Federal Register Liaison Officer, Department of Defense.

[FR Doc. 2023-26779 Filed 12-5-23; 8:45 am]

BILLING CODE 6001-FR-P